DEPARTMENT OF AGRICULTURE

Agricultural Marketing Service

[Docket No.: ANS-FV-07-0100; FV-08-328]

United States Standards for Grades of Frozen Okra

AGENCY: Agricultural Marketing Service, USDA.

ACTION: Reopening and extension of the comment period.

SUMMARY: Notice is hereby given that the comment period for the proposed notice to revise the United States Standards for Grades of Frozen Okra is being reopened and extended.

DATES: Comments must be submitted on or before July 15, 2008.

ADDRESSES: Written comments may be submitted to: Albert K. Hoover, Processed Products Branch, Fruit and Vegetable Programs, Agricultural Marketing Service, U.S. Department of Agriculture, STOP 0247, 1400 Independence Avenue, SW., Washington, DC 20250-0247; fax (202) 690-1527; http://www.regulations.gov; or e-mail albert.hoover@usda.gov. Comments should, reference the date and page of this issue of the Federal Register. All comments received will be made available for public inspection, at the address listed above, during regular business hours and on the Internet at http://www.regulations.gov.

The draft of the United States Standards for Grades of Frozen Okra is available through the address cited above, or http://www.regulations.gov. Any comments received regarding this proposed standard will also be posted on these sites.

FOR FURTHER INFORMATION CONTACT: Albert K. Hoover at: (202) 720-5021 or by e-mail at: albert.hoover@usda.gov.

SUPPLEMENTARY INFORMATION: A notice was published on December 12, 2007 in the Federal Register (72 FR 238) requesting comments on a proposal to revise the United States Standards for Grades of Frozen Okra. The action would create a change in the grade standards for frozen okra that will include a change from a “score point” grading system to an “individual attribute” grading system. The individual attribute grading system uses sample sizes and acceptable quality levels (AQL's), along with tolerances and acceptance numbers (number of allowable defects), to determine the quality level of a lot. The action will also modify the definition of several terms, in order to bring frozen okra in line with current marketing practices. The proposed standard will provide a common language for trade, a means of measuring value in the marketing of frozen okra1 and provide guidance in the effective utilization of frozen okra.

The American Frozen Food Institute (AFFI) requested that additional time be provided for interested persons to comment on the proposed standard. AFFI believes that reopening the comment period will enable interested parties adequate time to review the proposed changes.

After reviewing the request, the Department is reopening the comment period in order to allow sufficient time for all interested persons to file comments.

This notice provides for a 60 day period for interested parties to comment on changes to the standards.

Authority: 7 U.S.C. 1621-1627.

Dated: May 9, 2008.
Lloyd C. Day,
Administrator, Agricultural Marketing Service.

[FR Doc. E8-10845 Filed 5-15-08; 8:45 am]

BILLING CODE 3410-02-M